DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the corrective dependent resurvey and dependent resurvey of portions of the west boundary (east boundary of T. 5 S., R. 6 E.), and the dependent resurvey of portions of the south boundary, the subdivisional lines, and the 1910 meanders of the left bank of the Snake River in section 31, and the subdivision of section 31, the survey of the 2002 meanders of the right bank of the Snake River in section 31, and the metes-and-bounds survey of Parcels A and B, section 31, in T. 5 S., R. 7 E., Boise Meridian, Idaho, was accepted June 9, 2004.

The plat, in 2 sheets, constituting the entire survey record, of the dependent resurvey of portions of the east boundary of T. 6 S., R. 6 E., north boundary, and subdivisional lines, the subdivision of section 6, and the survey of an access easement in section 6, in T. 6 S., R. 7 E., Boise Meridian, Idaho, was accepted June 9, 2004.

The plat representing the dependent resurvey of a portion of the east boundary, a portion of the north boundary, and a portion of the subdivisional lines, and the subdivision of sections 1, 12, and 13, in T. 10 N., R. 41 E., Boise Meridian, Idaho, was accepted December 14, 2005.

The plat representing the dependent resurvey of a portion of the west boundary, and a portion of the subdivisional lines, and the subdivision of section 6, in T. 3 N., R. 46 E., was accepted December 16, 2005.

The plat representing the dependent resurvey of a portion of the south boundary, a portion of the west boundary, and a portion of the subdivisional lines, and the subdivision of sections 30 and 31, in T. 4 N., R. 46 E., Boise Meridian, Idaho, was accepted December 16, 2005.

The plat representing dependent resurvey of a portion of the First Standard Parallel South (south boundary), a portion of the west boundary, and a portion of the subdivisional lines, and the subdivision of sections 31 and 32, in T. 6 S., R. 36 E., Boise Meridian, Idaho, was accepted December 28, 2005.

These surveys were executed at the request of the Bureau of Indian Affairs to meet certain administrative and management purposes. The lands surveyed are:

The plat representing the dependent resurvey of portions of the west boundary, the subdivisional lines, and the subdivision of sections 3, 10, and 19, and the additional subdivision of sections 3, 10, and 19, in T. 33 N., R. 2 E., Boise Meridian, Idaho, was accepted November 10, 2005.

The plat representing the dependent resurvey of a portion of the subdivisional lines and the subdivision of sections 21, 22, and 26, in T. 48 N., R. 5 W., Boise Meridian, Idaho, was accepted December 14, 2005.

This survey was executed at the request of the Bureau of Reclamation to meet certain administrative and management purposes. The lands surveyed are:

The plat representing the dependent resurvey of portions of the west boundary and subdivisional lines, and the subdivision of sections 17, 18, and 20, and certain metes-and-bound surveys in sections 17, 18, and 20, in T. 9 S., R. 21 E., Boise Meridian, Idaho, was accepted November 7, 2005.

Dated: January 10, 2006.
Stanley G. French,
Chief Cadastral Surveyor for Idaho.

[FR Doc. E6-382 Filed 1-13-06; 8:45 am]

BILLING CODE 4310-GG-P